NUCLEAR REGULATORY COMMISSION

[NRC-2018-0275]

Biweekly Notice; Applications and Amendments to Facility Operating Licenses and Combined Licenses Involving No Significant Hazards Considerations

AGENCY: Nuclear Regulatory Commission.

ACTION: Biweekly notice.

SUMMARY: Pursuant to the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from November 20, 2018 to December 3, 2018. The last biweekly notice was published on December 4, 2018.

DATES: Comments must be filed by January 17, 2019. A request for a hearing must be filed by February 19, 2019.

ADDRESSES: You may submit comments by any of the following methods:

• Federal Rulemaking website: Go to http://www.regulations.gov and search for Docket ID NRC-2018-0275. Address questions about Docket IDs in Regulations.gov to Krupskaya Castellon; telephone: 301-287-9221; email: Krupskaya.Castellon@nrc.gov. For technical questions, contact the individual listed in the FOR FURTHER INFORMATION CONTACT section of this document.

• Mail comments to: May Ma, Office of Administration, Mail Stop: TWFN-7-A60M, U.S. Nuclear Regulatory Commission, Washington, DC 20555-0001.

For additional direction on obtaining information and submitting comments, see “Obtaining Information and Submitting Comments” in the SUPPLEMENTARY INFORMATION section of this document.

FOR FURTHER INFORMATION CONTACT: Ikeda Betts, Office of Nuclear Reactor Regulation, U.S. Nuclear Regulatory Commission, Washington, DC 20555-0001; telephone: 301-415-1959, email: Ikeda.Betts@nrc.gov.

SUPPLEMENTARY INFORMATION:

I. Obtaining Information and Submitting Comments

A. Obtaining Information

Please refer to Docket ID NRC-2018-0275, facility name, unit number(s), plant docket number, application date, and subject when contacting the NRC about the availability of information for this action. You may obtain publicly-available information related to this action by any of the following methods:

• Federal Rulemaking website: Go to http://www.regulations.gov and search for Docket ID NRC-2018-0275.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2018-0275, facility name, unit number(s), plant docket number, application date, and subject in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

Pursuant to the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

III. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at http://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at http://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at http://www.nrc.gov/site-help/e-submittals/getting-started.html. Once a participant has obtained a digital ID certificate and a docket has been created, the participant can then submit adjudicatory documents. Submissions must be in Portable Document Format (PDF). Additional guidance on PDF submissions is available on the NRC's public website at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Exelon Generation Company, LLC (Exelon), Docket No. 50-219, Oyster Creek Nuclear Generating Station (OCNGS), Ocean County, New Jersey

Date of amendment request: November 12, 2018. A publicly-available version is in ADAMS under Accession No. ML18317A022.

Description of amendment request: The amendment would remove the existing Cyber Security Plan (CSP) requirements contained in License Condition 2.C.(4) of the OCNGS Renewed Facility Operating License and the commitment to fully implement the CSP by the Milestone 8 commitment date of August 31, 2021 (ADAMS Accession No. ML17289A222).

Basis for proposed no significant hazards consideration determination: As required by 10 CFR 50.91(a), the licensee has provided its analysis of the issue of no significant hazards consideration, which is presented below:

1. Does the proposed amendment involve a significant increase in the probability or consequences of an accident previously evaluated?

Response: No.

Following cessation of power operations and removal of all spent fuel from the reactor, spent fuel at OCNGS will be stored in the spent fuel pool (SFP) and in the independent spent fuel storage installation (ISFSI). In this configuration, the spectrum of possible transients and accidents is significantly reduced compared to an operating nuclear power reactor. The only design basis accident that could potentially result in an offsite radiological release at OCNGS is the fuel handling accident (FHA), which is predicated on spent fuel being stored in the SFP. An analysis has been performed that concludes that once OCNGS has be[en] permanently shut down for 33 days, there is no longer any possibility of an offsite radiological release from a design basis accident that could exceed the U.S. Environmental Protection Agency's (EPA's) Protective Action Guidelines (PAGs). The results of this analysis have been previously submitted to the NRC (ADAMS Accession No. ML17234A082) (Reference 5 [of Exelon's letter dated November 12, 2018]). With the significant reduction in radiological risk based on OCNGS being shut down for more than 33 days, the consequences of a cyber-attack are also significantly reduced.

Additionally, per an NRC Memorandum, “Cyber Security Requirements for Decommissioning Nuclear Power Plants” (Reference 4 [of Exelon's letter dated November 12, 2018], ADAMS Accession No. ML16172A284), the NRC staff has determined that 10 CFR 73.54 does not apply to reactor licensees that have submitted certifications of permanent cessation of power operations and permanent removal of fuel under 10 CFR 50.82(a)(1), and whose certifications have been docketed by the NRC (10 CFR 50.82(a)(2) (References 2 and 3 [of Exelon's letter dated November 12, 2018], Accession Nos. ML18045A084 and ML18268A258), once sufficient time has passed such that the spent fuel stored in the spent fuel pool cannot reasonably heat up to clad ignition temperature within 10 hours. Exelon has provided a site-specific analysis, “Oyster Creek Nuclear Generating Station Zirconium Fire Analysis for Drained Spent Fuel Pool,” in Reference 5 [of Exelon's letter dated November 12, 2018] (ADAMS Accession No. ML17234A082), that provides the determination that sufficient time will have passed prior to the requested implementation date such that the spent fuel stored in the spent fuel pool cannot reasonably heat up to clad ignition temperature within 10 hours. Exelon has subsequently submitted a revised OCNGS site-specific Zirconium-Fire Analysis (References 7 and 8 [of Exelon's letter dated November 12, 2018], ML18295A384 and ML18310A306) that supports that the minimum cooling time may be reduced to 9.38 months (235 days).

This proposed change does not alter previously evaluated accident analysis assumptions, introduce or alter any initiators, or affect the function of facility structures, systems, and components (SSCs) relied upon to prevent or mitigate any previously evaluated accident or the manner in which these SSCs are operated, maintained, modified, tested, or inspected. The proposed change does not involve any facility modifications which affect the performance capability of any SSCs relied upon to prevent or mitigate the consequences of any previously evaluated accidents.

Therefore, the proposed change does not involve a significant increase in the probability or consequences of an accident previously evaluated.

2. Does the proposed amendment create the possibility of a new or different kind of accident from any accident previously evaluated?

Response: No.

This proposed change does not alter accident analysis assumptions, introduce or alter any initiators, or affect the function of facility SSCs relied upon to prevent or mitigate any previously evaluated accident, or the manner in which these SSCs are operated, maintained, modified, tested, or inspected. The proposed change does not involve any facility modifications which affect the performance capability of any SSCs relied upon to mitigate the consequences of previously evaluated accidents and does not create the possibility of a new or different kind of accident from any accident previously evaluated.

Therefore, the proposed change does not create the possibility of a new or different kind of accident from any previously evaluated.

3. Does the proposed amendment involve a significant reduction in a margin of safety?

Response: No.

Plant safety margins are established through limiting conditions for operation and design features specified in the OCNGS Permanently Defueled Technical Specifications that were approved by the NRC Safety Evaluation dated October 26, 2018 (Reference 11 [of Exelon's letter dated November 12, 2018], ADAMS Accession No. ML18227A338). The proposed change does not involve any changes to the initial conditions that establish safety margins and does not involve modifications to any SSCs which are relied upon to provide a margin of safety. Because there is no change to established safety margins as a result of this proposed change, no significant reduction in a margin of safety is involved.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: Douglas A. Broaddus.

Exelon Generation Company, LLC, Docket Nos. 50-352 and 50-353, Limerick Generating Station (LGS), Units 1 and 2, Montgomery County, Pennsylvania

Date of amendment request: October 19, 2018. A publicly-available version is in ADAMS under Accession No. ML18292A451.

Description of amendment request: The amendments would revise the LGS, Units 1 and 2, Technical Specification (TS) requirements for inoperable isolation actuation instrumentation to allow for isolation of the flow path(s) that penetrate the primary containment (PC) boundary instead of requiring closure of a specific PC isolation valve (PCIV). The proposed changes also clarify the TS action for inoperable isolation actuation instrumentation for the reactor enclosure manual isolation function.

Basis for proposed no significant hazards consideration determination: As required by 10 CFR 50.91(a), the licensee has provided its analysis of the issue of no significant hazards consideration, which is presented below:

1. Does the proposed change involve a significant increase in the probability or consequences of an accident previously evaluated?

Response: No.

The proposed changes would modify specific TS Actions for inoperable PC Isolation Actuation Instrumentation to allow for isolation of the PC penetration flow path(s) instead of requiring closure of a specific PCIV. Closure of either the inboard or outboard PCIV provides the same safety function for isolating the PC penetration. The proposed changes provide for an increase in operational flexibility and avoid the potential for an extended isolation of a PC penetration. The proposed changes also modify the TS action for inoperable Isolation Actuation Instrumentation to include a clarification for the Reactor Enclosure manual isolation function. The change simplifies the description of the operator actions required to be taken and is based on the end result of performing the safety function for ensuring SC [secondary containment] integrity is maintained. These changes are consistent with existing LGS TS actions for inoperable PCIVs. These changes are also consistent with Improved Standard Technical Specifications (ISTS) actions for inoperable Isolation Actuation Instrumentation.

The proposed changes do not alter the physical design of any plant structure, system, or component; therefore, the proposed changes have no adverse effect on plant operation, or the availability or operation of any accident mitigation equipment. The plant response to the design basis accidents does not change. The proposed changes will maintain plant operation within the bounds of the current analysis for the accident source term dose limits in the Loss of Coolant Accident (LOCA) analysis, and therefore, the changes do not adversely affect the consequences of any accident previously evaluated.

Therefore, the proposed change does not involve a significant increase in the probability or consequences of an accident previously evaluated.

2. Does the proposed change create the possibility of a new or different kind of accident from any accident previously evaluated?

Response: No.

The proposed changes would modify specific TS Actions for inoperable PC Isolation Actuation Instrumentation to allow for isolation of the PC penetration flow path(s) instead of requiring closure of a specific PCIV. Closure of either the inboard or outboard PCIV provides the same safety function for isolating the penetration. The proposed changes provide for an increase in operational flexibility and avoid the potential for an extended isolation of a PC penetration. The proposed changes also modify the TS action for inoperable Isolation Actuation Instrumentation to include a clarification for the Reactor Enclosure manual isolation function. The change simplifies the description of the operator actions required to be taken and is based on the end result of performing the safety function for ensuring SC integrity is maintained. The proposed changes will maintain plant operation within the bounds of the current analysis and assumptions for the accident and special event analysis.

The proposed changes do not alter the plant configuration (no new or different type of equipment is being installed) or require any new or unusual operator actions. The proposed changes do not alter the safety limits or safety analysis assumptions associated with the operation of the plant. The proposed changes do not introduce any new failure modes that could result in a new accident. The proposed changes do not reduce or adversely affect the capabilities of any plant structure, system, or component in the performance of their safety function. Also, the response of the plant and the operators following the design basis accidents is unaffected by the proposed changes.

Therefore, the proposed change does not create the possibility of a new or different kind of accident from any accident previously evaluated.

3. Does the proposed change involve a significant reduction in a margin of safety?

Response: No.

The proposed changes would modify specific TS Actions for inoperable PC Isolation Actuation Instrumentation to allow for isolation of the PC penetration flow path(s) instead of requiring closure of a specific PCIV. Closure of either the inboard or outboard PCIV provides the same safety function for isolating the PC penetration. The proposed changes provide for an increase in operational flexibility and avoid the potential for an extended isolation of a PC penetration. The proposed changes also modify the TS action for inoperable Isolation Actuation Instrumentation to include a clarification for the Reactor Enclosure manual isolation function. The change simplifies the description of the operator actions required to be taken and is based on the end result of performing the safety function for ensuring SC integrity is maintained. The proposed changes will maintain plant operation within the bounds of the current analysis and assumptions for the accident and special event analysis.

The proposed changes have no adverse effect on plant operation, or the availability or operation of any accident mitigation equipment. The plant response to the design basis accidents does not change. The proposed changes do not adversely affect existing plant safety margins or the reliability of the equipment assumed to operate in the safety analyses. There is no change being made to safety analysis assumptions, safety limits or limiting safety system settings that would adversely affect plant safety as a result of the proposed changes.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: James G. Danna.

Exelon Generation Company, LLC, Docket No. 50-220, Nine Mile Point Nuclear Station, Unit 1, Oswego County, New York

Date of amendment request: June 26, 2018. A publicly-available version is in ADAMS under Accession No. ML18177A044.

Description of amendment request: The amendment would modify Technical Specification (TS) 3.3.1, “Oxygen Concentration,” to require inerting the primary containment to less than 4 percent by volume oxygen concentration within 24 hours of exceeding 15 percent of rated thermal power (RTP), and allow de-inerting the containment 24 hours prior to reducing thermal power to less than or equal to 15 percent of RTP. Also, the amendment would add a new requirement to identify required actions if the primary containment oxygen concentration increases to greater than or equal to four volume percent while in the power operating condition.

Basis for proposed no significant hazards consideration determination: As required by 10 CFR 50.91(a), the licensee has provided its analysis of the issue of no significant hazards consideration, which is presented below:

1. Does the proposed amendment involve a significant increase in the probability or consequences of an accident previously evaluated?

Response: No.

The proposed change modifies the Technical Specifications (TS) by adopting containment inerting and de-inerting requirements that are consistent with the guidance of NUREG-1433, “Standard Technical Specifications—General Electric BWR/4 Plants, Volume 1, Revision 4.0,” published April 2012. The proposed change will allow inerting of the primary containment within 24 hours of exceeding 15 percent (%) Rated Thermal Power (RTP), and de-inerting 24 hours prior to reducing reactor power to less than or equal to 15% RTP. Also, a new TS condition will be added to identify required actions if the primary containment oxygen concentration increases to greater than or equal to 4% by volume while in the power operating condition. The proposed change does not alter the physical configuration of the plant, nor does it affect any previously analyzed accident initiators. The accident analysis assumes that a Loss of Coolant Accident (LOCA) occurs at 100% RTP. The consequences of a LOCA at less than or equal to 15% RTP would be much less severe, and produce less hydrogen than a LOCA at 100% RTP.

Therefore, the proposed change does not involve a significant increase in the probability or consequences of an accident previously evaluated.

2. Does the proposed amendment create the possibility of a new or different kind of accident from any accident previously evaluated?

Response: No.

The proposed change adopts the STS guidance regarding containment inerting/de-inerting requirements. The proposed change introduces no new mode of plant operation and does not involve any physical modification to the plant. The proposed change is consistent with the current safety analysis assumptions. No setpoints are being changed which would alter the dynamic response of plant equipment. Accordingly, no new failure modes are introduced.

Therefore, the proposed change does not create the possibility of a new or different kind of accident from any previously evaluated.

3. Does the proposed amendment involve a significant reduction in a margin of safety?

Response: No.

The proposed change revises the Applicability presentation of the Oxygen Concentration TS. No safety limits are affected. The Oxygen Concentration TS requirements assure sufficient safety margins are maintained, and that the design, operation, surveillance methods, and acceptance criteria specified in applicable codes and standards (or alternatives approved for use by the NRC) will continue to be met as described in the plants' licensing basis. The proposed change does not adversely affect existing plant safety margins or the reliability of the equipment assumed to operate in the safety analysis. As such, there are no changes being made to safety analysis assumptions, safety limits, or limiting safety system settings that would adversely affect plant safety.

Therefore, the proposed change does not result in a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: James G. Danna.

Exelon Generation Company, LLC, Docket No. 50-219, Oyster Creek Nuclear Generating Station (OCNGS), Ocean County, New Jersey

Date of amendment request: October 22, 2018. A publicly-available version is in ADAMS under Accession No. ML18295A384.

Description of amendment request: The amendment would revise the effective and implementation dates of License Amendment No. 294, Permanently Defueled Emergency Plan (PDEP) and Emergency Action Level (EAL) scheme for the permanently defueled condition. On October 17, 2018 (ADAMS Accession No. ML18221A400), the NRC approved License Amendment No. 294, OCNGS PDEP and Permanently Defueled EAL Scheme. The PDEP and Permanently Defueled EAL scheme were predicated on approval of request for exemptions from portions of 10 CFR 50.47(b); 10 CFR 50.47(c)(2); and 10 CFR part 50, Appendix E, Section IV, which were approved on October 16, 2018 (ADAMS Accession No. ML18220A980). The basis for the approval of the exemptions from offsite emergency preparedness requirements included a site-specific analysis that showed that the fuel stored in the spent fuel pool (SFP) would not reach the zirconium ignition temperature in fewer than 10 hours from the time at which it was assumed a loss of both water and air cooling of the spent fuel (zirc-fire window). The revised adiabatic calculation provided in the submittal dated October 22, 2018, results in a reduced decay period from 365 days to 285 days for the zirc-fire window after the final reactor shut down.

Basis for proposed no significant hazards consideration determination: As required by 10 CFR 50.91(a), the licensee has provided its analysis of the issue of no significant hazards consideration, which is presented below:

1. Does the proposed amendment involve a significant increase in the probability or consequences of an accident previously evaluated?

Response: No.

The proposed change to the effective and implementation dates of License Amendment No. 294, OCNGS PDEP, Permanently Shutdown EAL scheme, and associated Exemptions at 9.38 months (285 days) does not impact the function of plant structures, systems, or components (SSCs). The proposed change does not affect accident initiators or precursors, nor does it alter design assumptions. The proposed change does not prevent the ability of the on-shift staff and emergency response organization (ERO) to perform their intended functions to mitigate the consequences of any accident or event that will be credible in the permanently defueled condition.

The probability of occurrence of previously evaluated accidents is not increased, since most previously analyzed accidents can no longer occur and the probability of the few remaining credible accidents are unaffected by the proposed amendment.

Therefore, the proposed change does not involve a significant increase in the probability or consequences of an accident previously evaluated.

2. Does the proposed amendment create the possibility of a new or different kind of accident from any accident previously evaluated?

Response: No.

The proposed change to effective and implementation dates for License Amendment No. 294, PDEP, Permanently Shutdown EAL scheme, and associated Exemptions at 9.38 months (285 days) is commensurate with the hazards associated with a permanently shutdown and defueled facility based on the updated site-specific analysis that showed the fuel stored in the SFP would not reach the zirconium ignition temperature in fewer than 10 hours from the time at which it was assumed a loss of both water and air cooling of the spent fuel. The proposed change does not involve installation of new equipment or modification of existing equipment, so that no new equipment failure modes are introduced. In addition, the proposed change does not result in a change to the way that the equipment or facility is operated so that no new or different kinds of accident initiators are created.

Therefore, the proposed change does not create the possibility of a new or different kind of accident from any previously evaluated.

3. Does the proposed amendment involve a significant reduction in a margin of safety?

Response: No.

Margin of safety is associated with confidence in the ability of the fission product barriers (i.e., fuel cladding, reactor coolant system pressure boundary, and containment structure) to limit the level of radiation dose to the public. The proposed change is associated with changing the effective and implementation dates of License Amendment No. 294, PDEP, Permanently Shutdown EAL scheme and associated Exemptions; it does not impact operation of the plant or its response to transients or accidents. The change does not affect the Technical Specifications. The proposed change does not involve a change in the method of plant operation, and no design bases accident analyses will be affected by the proposed changes. Safety analysis acceptance criteria are not affected by the proposed changes. The PDEP will continue to provide the necessary response staff with the appropriate guidance to protect the health and safety of the public.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: Douglas A. Broaddus.

Exelon Generation Company, LLC, Docket Nos. 50-317 and 50-318, Calvert Cliffs Nuclear Power Plant (Calvert Cliffs), Units 1 and 2, Calvert County, Maryland

Date of amendment request: August 13, 2018. A publicly available version is in ADAMS under Accession No. ML18226A189.

Description of amendment request: The amendments would revise the Technical Specifications (TSs) and licensing basis for the Calvert Cliffs, Units 1 and 2 Renewed Facility Operating Licenses, as documented in the Updated Final Safety Analysis Report (UFSAR). The changes would incorporate use of both a deterministic and a risk-informed approach to address safety issues discussed in Generic Safety Issue (GSI)-191, “Assessment of Debris Accumulation on PWR [Pressurized-Water Reactor] Sump Performance,” and close Generic Letter (GL) 2004-02, “Potential Impact of Debris Blockage on Emergency Recirculation During Design Basis Accidents at Pressurized-Water Reactors,” dated September 13, 2004 (ADAMS Accession No. ML042360586). New TS 3.6.9, “Containment Emergency Sump,” would be added, and administrative changes would be made to TS 3.5.2, “ECCS [Emergency Core Cooling System]—Operating,” and TS 3.5.3, “ECCS—Shutdown.”

Basis for proposed no significant hazards consideration determination: As required by 10 CFR 50.91(a), the licensee has provided its analysis of the issue of no significant hazards consideration, which is presented below:

1. Does the proposed change involve a significant increase in the probability or consequences of an accident previously evaluated?

Response: No.

The proposed change adds a new Technical Specification (TS) for the Containment Emergency Sump and moves an existing surveillance requirement (SR) from the ECCS TS to the new Containment Emergency Sump TS. The proposed changes support a methodology change for assessment of debris effects that adds the results of a risk-informed evaluation to the Calvert Cliffs licensing basis. The methodology change concludes that the ECCS and Containment System will have sufficient defense-in-depth and safety margin and with high probability will operate following a LOCA [loss-of-coolant accident] when considering the impacts and effects of debris accumulation on containment emergency recirculation sump strainer in recirculation mode. The methodology change also supports the changes to the TS.

There is no significant increase in the probability of an accident previously evaluated. The proposed changes address mitigation of loss of coolant accidents and have no effect on the probability of the occurrence of a LOCA. The proposed methodology and TS changes do not implement any physical changes to the facility or any Structures Systems and Components (SSCs), and do not implement any changes in plant operation that could lead to a different kind of accident.

The methodology change confirms that required SSCs supported by the emergency recirculation sumps with a high probability will perform their safety functions as required and does not alter or prevent the ability of SSCs to perform their intended function to mitigate the consequences of an accident previously evaluated within the acceptance limits. The safety analysis acceptance criteria in the Updated Final Safety Analysis Report (UFSAR) continue to be met for the proposed methodology change. The evaluation of the changes determined that containment integrity will be maintained. The dose consequences were considered in the assessment and quantitative evaluation of the effects on dose using input from the risk-informed approach shows the increase in dose consequences is small.

Therefore, the proposed change does not involve a significant increase in the probability or consequences of any the accident previously evaluated in the UFSAR.

2. Does the proposed change create the possibility of a new or different kind of accident from any accident previously evaluated?

Response: No.

The proposed change adds a new Technical Specification for the Containment Emergency sump and moves an existing SR from the ECCS TS to the new Containment Emergency Sump TS. The proposed changes are a methodology change for assessment of debris effects from LOCAs that are already evaluated in the Calvert Cliffs UFSAR, an extension of TS required completion time for potential LOCA debris related effects on ECCS and CS and associated administrative changes to the TS. No new or different kind [of] accident is being evaluated. None of the changes install or remove any plant equipment, or alter the design, physical configuration, or mode of operation of any plant structure, system or component. The proposed changes do not introduce any new failure mechanisms or malfunctions that can initiate an accident. The proposed changes do not introduce failure modes, accident initiators, or equipment malfunctions that would cause a new or different kind of accident.

Therefore, the proposed changes do not create the possibility for a new or different kind of accident from any previously evaluated.

3. Does the proposed change involve a significant reduction in a margin of safety?

Response: No.

The proposed change adds a new TS for the containment emergency sump and moves an existing SR from the ECCS TS to the new Containment Emergency Sump TS. The proposed change includes a methodology change for assessment of debris effects from LOCAs.

The sump strainer debris loads from a full spectrum of LOCAs of all piping sizes up to and including double-ended guillotine breaks of the largest pipe in the reactor coolant system, are analyzed. Appropriate redundancy and consideration of loss of offsite power and worst case single failure are retained, such that defense-in-depth is maintained.

Application of the risk-informed methodology showed that the increase in risk from the contribution of the analyzed debris effects is very small as defined by RG [Regulatory Guide] 1.174 and that there is adequate defense in depth and safety margin. Consequently, Calvert Cliffs determined that the risk-informed method does not involve a significant reduction in margin of safety and demonstrated that the containment emergency sump will continue to support the ability of safety related components to perform their design functions when the effects of debris are considered. The proposed change does not alter the manner in which safety limits are determined or acceptance criteria associated with a safety limit. The proposed change does not implement any changes to plant operation and does not significantly affect SSCs that respond to safely shutdown the plant and to maintain the plant in a safe shutdown condition. The proposed change does not affect the existing safety margins in the barriers for the release of radioactivity. There are no changes to any of the safety analyses in the UFSAR.

Defense in depth and safety margin was extensively evaluated for the methodology change and the associated TS changes. The evaluation determined that there is substantial defense in depth and safety margin that provide a high level of confidence that the calculated risk for the methodology and TS changes is acceptable.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: James G. Danna.

Exelon Generation Company, LLC, Docket Nos. 50-317, 50-318 and 72-8, Calvert Cliffs Nuclear Power Plant (CCNPP), Units 1 and 2, and Independent Spent Fuel Storage Installation, Calvert County, Maryland

Date of amendment request: August 30, 2018. A publicly available version is in ADAMS under Accession No. ML18242A067.

Description of amendment request: The amendments would relocate and consolidate the Emergency Operations Facility (EOF) and Joint Information Center (JIC) for CCNPP with the existing Exelon Generation Company, LLC joint EOF and JIC located at 175 North Caln Road, Coatesville, Pennsylvania. (This facility in Coatesville, Pennsylvania, is currently used as an EOF/JIC for Limerick Generating Station, Units 1 and 2 (LGS); Peach Bottom Atomic Power Station, Units 2 and 3 (PBAPS); and Three Mile Island Nuclear Station (TMI).)

Basis for proposed no significant hazards consideration determination: As required by 10 CFR 50.91(a), the licensee has provided its analysis of the issue of no significant hazards consideration, which is presented below:

1. Does the proposed change involve a significant increase in the probability or consequences of an accident previously evaluated?

Response: No.

The proposed change relocates the CCNPP EOF/JIC from its present location to the existing Coatesville EOF/JIC. This EOF/JIC facility currently functions as the EOF/JIC for LGS, PBAPS, and TMI. The functions and capabilities of the relocated CCNPP EOF/JIC will continue to meet the applicable regulatory requirements. The proposed changes have no effect on normal plant operation. The proposed changes do not affect accident initiators or accident precursors, nor do the changes alter design assumptions. The proposed changes do not impact the function of plant Structures, Systems, or Components (SSCs). The proposed changes do not alter or prevent the ability of the emergency response organization to perform its intended functions to mitigate the consequences of an accident or event.

Therefore, the proposed change does not involve a significant increase in the probability or consequences of an accident previously evaluated.

2. Does the proposed change create the possibility of a new or different kind of accident from any accident previously evaluated?

Response: No.

The proposed change only impacts the implementation of the CCNPP Emergency Plan by relocating and consolidating its EOF/JIC with the established Coatesville EOF/JIC. The functions and capabilities of the relocated CCNPP EOF/JIC will continue to meet the applicable regulatory requirements. The proposed change has no impact on the design, function, or operation of any plant SSCs. The proposed change does not affect plant equipment or accident analyses. The proposed change does not involve a physical alteration of the plant (i.e., no new or different type of equipment will be installed), a change in the method of plant operation, or new operator actions. The proposed change does not introduce failure modes that could result in a new accident, and the proposed change does not alter assumptions made in the safety analysis.

Therefore, the proposed change does not create the possibility of a new or different kind of accident from any accident previously evaluated.

3. Does the proposed change involve a significant reduction in a margin of safety?

Response: No.

The proposed change only impacts the implementation of the CCNPP Emergency Plan by relocating its current EOF/JIC to the existing Coatesville EOF/JIC. The functions and capabilities of the relocated EOF/JIC will continue to meet the applicable regulatory requirements.

Margin of safety is associated with confidence in the ability of the fission product barriers (i.e., fuel cladding, reactor coolant system pressure boundary, and containment structure) to limit the level of radiation dose to the public. The proposed change is associated with the Emergency Plans for CCNPP and does not impact operation of the plant or its response to transients or accidents. The proposed change does not affect the Technical Specifications. The proposed change does not involve a change in the method of plant operation, and no accident analyses will be affected by the proposed change. Safety analysis acceptance criteria are not affected. The proposed change does not adversely affect existing plant safety margins, or the reliability of the equipment assumed to operate in the safety analyses. There are no changes being made to safety analysis assumptions, safety limits, or limiting safety system settings that would adversely affect plant safety as a result of the proposed change.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: James G. Danna.

PSEG Nuclear LLC, Docket No. 50-354, Hope Creek Generating Station (HCGS), Salem County, New Jersey

Date of amendment request: October 30, 2018. A publicly-available version is in ADAMS under Accession No. ML18304A191.

Description of amendment request: The amendment would revise Technical Specification (TS) 3.3.7.4, “Remote Shutdown System Instrumentation and Controls,” to make the HCGS requirements consistent with Improved Standard Technical Specification 3.3.4, “Remote Shutdown System.” The change would increase the allowed outage time for inoperable remote shutdown system components to a time that is more consistent with their safety significance. Also, the amendment would delete Tables 3.3.7.4-1, 3.3.7.4-2, and 4.3.7.4-1, and relocate them to the Technical Requirements Manual, where they would be directly controlled by HCGS.

Basis for proposed no significant hazards consideration determination: As required by 10 CFR 50.91(a), the licensee has provided its analysis of the issue of no significant hazards consideration, which is presented below:

1. Does the proposed amendment involve a significant increase in the probability or consequences of an accident previously evaluated?

Response: No.

The proposed TS amendment does not involve potential accident initiators; therefore, there is no significant increase in the probability of an accident previously evaluated. There is no proposed change to the design basis or configuration of the plant and the extension of the allowed outage time of the Remote Shutdown System functions is consistent with the low probability of an event requiring control room evacuation during the allowed outage time and does not have a significant effect on safety.

Therefore, the proposed change does not involve a significant increase in the probability or consequences of an accident previously evaluated.

2. Does the proposed amendment create the possibility of a new or different kind of accident from any accident previously evaluated?

Response: No.

The proposed amendment does not involve physical alteration of the HCGS. No new equipment is being introduced, and installed equipment is not being operated in a new or different manner. There is no change being made to the parameters within which the HCGS is operated. There are no setpoints at which protective or mitigating actions are initiated that are affected by this proposed action. The change does not alter assumptions made in the safety analysis. This proposed action will not alter the manner in which equipment operation is initiated, nor will the functional demands on credited equipment be changed. No alteration is proposed to the procedures that ensure the HCGS remains within analyzed limits, and no change is being made to procedures relied upon to respond to an off-normal event. As such, no new failure modes are being introduced.

Therefore, the proposed changes do not create the possibility of a new or different kind of accident from any previously evaluated.

3. Does the proposed amendment involve a significant reduction in a margin of safety?

Response: No.

Margin of safety is related to the confidence in the ability of the fission product barriers to perform their design functions during and following an accident. These barriers include the fuel cladding, the reactor coolant system, and the containment system. The proposed change, which makes the HCGS TS for Remote Shutdown System consistent with the requirements of NUREG-1433, does not exceed or alter a setpoint, design basis or safety limit.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Steven Fleischer, PSEG Services Corporation, 80 Park Plaza, T-5, Newark, NJ 07101.

NRC Branch Chief: James G. Danna.

Tennessee Valley Authority, Docket Nos. 50-259, 50-260, and 50-296, Browns Ferry Nuclear Plant (BFN), Units 1, 2, and 3, Limestone County, Alabama

Date of amendment request: October 18, 2018. A publicly-available version is in ADAMS under Accession No. ML18295A109.

Description of amendment request: The amendments would revise the BFN licensing basis regarding the National Fire Protection Association (NFPA) 805 program to delete Modification 85 from Table S-2 “Plant Modifications Committed,” and to extend due dates for Modifications 102 and 106 in Table S-2 for 4 months and 6 months, respectively.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment adds the reference to this letter to the BFN RFOL [Renewed Facility Operating License] License Condition, Transition Condition 2, paragraphs 2.C.(13), 2.C.(14), and 2.C.(7) for BFN Units 1, 2, and 3, respectively. The change encompassed by the proposed amendment is to delete Modification 85 in Attachment S, Table S-2 of the BFN NFPA 805 Transition Report, and to extend the due dates of Modifications 102 and 106.

The proposed changes do not adversely affect accident initiators or precursors nor alter the design assumptions, conditions, and configuration of the facility or the manner in which the plant is operated and maintained. The proposed change does not affect the ability of structures, systems and components (SSCs) to perform their intended safety function to mitigate the consequences of an initiating event within the assumed acceptance limits.

Therefore, these proposed changes do not involve a significant increase in the probability of consequences of an accident previously identified.

2. Does the proposed amendment create the possibility of a new or different kind of accident from any accident previously evaluated?

Response: No.

The proposed amendment adds the reference to this letter to the BFN RFOL License Condition, Transition Condition 2, paragraphs 2.C.(13), 2.C.(14), and 2.C.(7) for BFN Units 1, 2, and 3, respectively. The changes encompassed by the proposed amendment are to delete Modification 85 in Attachment S, Table S-2 of the BFN NFPA 805 Transition Report, and extend the due dates of Modifications 102 and 106.

There is no risk impact to Core Damage Frequency (CDF) or Large Early Release Frequency (LERF) because these proposed changes do not impact the FPRA [fire probabilistic risk assessment] results. These proposed changes are an NFPA 805 Chapter 3 compliance issue only and do not require a change to the FPRA. This level of detail is not modeled in the FPRA.

The proposed change does not result in any new or different kinds of accident from that previously evaluated because it does not change any precursors or equipment that is previously credited for accident mitigation.

Therefore, the proposed change does not create the possibility of a new or different kind of accident from any accident previously evaluated.

3. Does the proposed amendment involve a significant reduction in a margin of safety?

Response: No.

The proposed amendment adds the reference to this letter to the BFN RFOL License Condition, Transition Condition 2, paragraphs 2.C.(13), 2.C.(14), and 2.C.(7) for BFN Units 1, 2, and 3, respectively. The change encompassed by the proposed amendment is to delete Modification 85 in Attachment S, Table S-2 of the BFN NFPA 805 Transition Report, and extend the due dates of Modifications 102 and 106.

The proposed change deletes Modification 85 in its entirety from Table S-2. Modification 85 would have installed pneumatic pre-discharge alarms and pneumatic time delays in the CO2 systems to meet NFPA 12, 2008 Edition. NFPA 12, 2008 Edition requires pneumatic predischarge alarms and pneumatic time delays for CO2 systems. The CO2 system predischarge alarms and time delays are currently electric and meet the NFPA 12, 1966 Edition code of record.

The deletion of Modification 85 does not affect the Fire PRA or the fire suppression system currently in place at BFN. This proposed change does not affect other items listed in Attachment S or adversely affect the BFN implementation of NFPA 805 at BFN.

The proposed changes associated with Modifications 85, 102, and 106 do not involve any licensing basis analyses. Therefore, the safety margin inherent in the analyses for fire events has been preserved.

These proposed changes will not result in any new or different kinds of accident from that previously evaluated because it does not change any precursors or equipment that is previously credited for accident mitigation.

Therefore, based on the above discussion, these proposed changes do not involve a reduction in the margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, 6A West Tower, Knoxville, TN 37902.

NRC Branch Chief: Undine Shoop.

IV. Previously Published Notices of Consideration of Issuance of Amendments to Facility Operating Licenses and Combined Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

Tennessee Valley Authority, Docket No. 50-391, Watts Bar Nuclear Plant, Unit 2, Rhea County, Tennessee

Date of amendment request: October 31, 2018.

Brief description of amendment request: The proposed amendment would revise the completion date for License Condition 2.C.(5) for the Watts Bar Nuclear Plant, Unit 2, regarding the completion of action to resolve the issues identified in Bulletin 2012-01, “Design Vulnerability in Electric Power System” (ADAMS Accession No. ML12074A115), from December 31, 2018, to December 31, 2019, to align with the remainder of the Tennessee Valley Authority fleet and with the nuclear industry.

Date of publication of individual notice in Federal Register: November 14, 2018 (83 FR 56876).

Expiration date of individual notice: December 14, 2018 (public comments); January 14, 2019 (hearing requests).

V. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Carolinas, LLC, Docket Nos. 50-413 and 50-414, Catawba Nuclear Station, Units 1 and 2, York County, South Carolina

Date of amendment request: September 14, 2017, as supplemented by letters dated May 8, August 17, September 20, October 29, and November 15, 2018.

Brief description of amendments: The amendments revised Technical Specification 3.7.8, “Nuclear Service Water System (NSWS).” A new Condition D was added, along with other corresponding changes, for one NSWS pond return header being inoperable due to the NSWS being aligned for single pond return header operation with a Completion Time of 30 days.

Date of issuance: November 28, 2018.

Effective date: As of the date of issuance and shall be implemented within 120 days of issuance.

Amendment Nos.: 300 (Unit 1) and 296 (Unit 2). A publicly-available version is in ADAMS under Accession No. ML18275A278; documents related to these amendments are listed in the Safety Evaluation enclosed with the amendments.

Renewed Facility Operating License Nos. NPF-35 and NPF-52: The amendments revised the Renewed Facility Operating Licenses and Technical Specifications.

Date of initial notice in Federal Register: March 13, 2018 (83 FR 10914). The supplemental letters dated May 8, August 17, September 20, October 19, and November 15, 2018, provided additional information that clarified the application, did not expand the scope of the application as originally noticed, and did not change the staff's original proposed no significant hazards consideration determination as published in the Federal Register.

The Commission's related evaluation of the amendment is contained in a Safety Evaluation dated November 28, 2018.

No significant hazards consideration comments received: Yes. One comment from a member of the public was received, however it was not related to the no significant hazards consideration determination or the license amendment request.

Duke Energy Carolinas, LLC, Docket Nos. 50-369 and 50-370, McGuire Nuclear Station, Units 1 and 2, Mecklenburg County, North Carolina

Date of amendment request: May 31, 2018.

Brief description of amendments: The amendments modified Technical Specification 3.1.7, “Rod Position Indication,” to add a new Condition for more than one inoperable digital rod position indication (DRPI) per rod group, and revise the Actions Note and to clarify the wording of current Required Actions A.1 and B.1. This change is consistent with NRC-approved Technical Specification Task Force (TSTF) Traveler TSTF-234-A, “Add Action for More Than One [D]RPI Inoperable,” Revision 1.

Date of issuance: November 19, 2018.

Effective date: These license amendments are effective as of its date of issuance and shall be implemented within 30 days of issuance.

Amendment Nos.: 310 (Unit 1) and 289 (Unit 2). A publicly-available version is in ADAMS under Accession No. ML18277A322; documents related to these amendments are listed in the Safety Evaluation enclosed with the amendments.

Renewed Facility Operating License Nos. NPF-9 and NPF-17: The amendments revised the Renewed Facility Operating Licenses and Technical Specifications.

Date of initial notice in Federal Register: August 28, 2018 (83 FR 43904).

The Commission's related evaluation of the amendments is contained in a Safety Evaluation dated November 19, 2018.

No significant hazards consideration comments received: No.

Duke Energy Progress, LLC, Docket No. 50-400, Shearon Harris Nuclear Power Plant, Unit 1 (HNP), Wake and Chatham Counties, North Carolina

Date of amendment request: October 10, 2017.

Brief description of amendment: The amendment revised Technical Specification (TS) ¾.1.1, “Reactivity Control Systems Boration Control,” and TS ¾.1.3, “Reactivity Control Systems Movable Control Assemblies Group Height,” to align more closely to the improved Standard TSs for rod control and to the initial conditions in the HNP safety analyses.

Date of issuance: November 19, 2018.

Effective date: As of the date of issuance and shall be implemented within 30 days of issuance.

Amendment No.: 168. A publicly-available version is in ADAMS under Accession No. ML18262A303; documents related to this amendment are listed in the Safety Evaluation enclosed with the amendment.

Renewed Facility Operating License No. NPF-63: The amendment revised the Renewed Facility Operating License and TSs.

Date of initial notice in Federal Register: January 2, 2018 (83 FR 167).

The Commission's related evaluation of the amendment is contained in a Safety Evaluation dated November 19, 2018.

No significant hazards consideration comments received: No.

Entergy Nuclear Operations, Inc., Docket No. 50-293, Pilgrim Nuclear Power Station, Plymouth County, Massachusetts

Date of amendment request: January 12, 2018, as supplemented by letter dated May 23, 2018.

Brief description of amendment: The amendment consisted of changes to the Emergency Response Organization's on-shift and augmented staffing changes to the Pilgrim Nuclear Power Station Site Emergency Plan.

Date of issuance: November 30, 2018.

Effective date: This license amendment is effective upon submittal of the certification of permanent removal of fuel from the reactor vessel in accordance with 10 CFR 50.82(a)(1)(ii), and shall be implemented within 90 days of the effective date.

Amendment No.: 248. A publicly-available version is in ADAMS under Accession No. ML18284A375; documents related to this amendment are listed in the Safety Evaluation enclosed with the amendment.

Renewed Facility Operating License No. DPR-35: The amendment revised the Site Emergency Plan.

Date of initial notice in Federal Register: March 27, 2018 (83 FR 13149). The supplemental letter dated May 23, 2018, provided additional information that clarified the application, did not expand the scope of the application as originally noticed, and did not change the staff's original proposed no significant hazards consideration determination as published in the Federal Register.

The Commission's related evaluation of the amendment is contained in a Safety Evaluation dated November 30, 2018.

No significant hazards consideration comments received: No.

Entergy Operations, Inc., Docket No. 50-368, Arkansas Nuclear One, Unit 2 (ANO-2), Pope County, Arkansas

Date of amendment request: November 20, 2017, as supplemented by letters dated August 1, and October 10, 2018.

Brief description of amendment: The amendment revised the ANO-2 Technical Specifications (TSs) to replace the current pressure-temperature limits for heatup, cooldown, and the inservice leak hydrostatic tests for the reactor coolant system presented in TS 3.4.9, which expire at 32 Effective Full Power Years (EFPY), with limitations that extend out to 54 EFPY.

Date of issuance: November 27, 2018.

Effective date: As of the date of issuance and shall be implemented within 30 days from the date of issuance.

Amendment No.: 311. A publicly-available version is in ADAMS under Accession No. ML18298A012; documents related to this amendment are listed in the Safety Evaluation enclosed with the amendment.

Renewed Facility Operating License No. NPF-6: The amendment revised the Renewed Facility Operating License and TSs.

Date of initial notice in Federal Register: February 27, 2018 (83 FR 8514). The supplemental letters dated August 1, and October 10, 2018, provided additional information that clarified the application, did not expand the scope of the application as originally noticed, and did not change the NRC staff's original proposed no significant hazards consideration determination as published in the Federal Register.

The Commission's related evaluation of the amendment is contained in a Safety Evaluation dated November 27, 2018.

No significant hazards consideration comments received: No.

Entergy Operations, Inc., Docket Nos. 50-313 and 50-368, Arkansas Nuclear One, Units 1 and 2, Pope County, Arkansas

Entergy Operations, Inc.; System Energy Resources, Inc.; Cooperative Energy, a Mississippi Electric Cooperative; and Entergy Mississippi, Inc., Docket No. 50-416, Grand Gulf Nuclear Station (Grand Gulf), Unit 1, Claiborne County, Mississippi

Date of amendment request: September 21, 2017, as supplemented by letter dated November 15, 2018.

Brief description of amendments: The amendments for Arkansas Nuclear One, Units 1 and 2, revised Renewed Facility Operating License Nos. DPR-51 and NPF-6 to reflect a new limited liability company, Entergy Arkansas, LLC, as owner, as a result of the license transfer. The amendment for Grand Gulf, Unit 1, revised Renewed Facility Operating License No. NPF-29 to reflect a newly formed entity with antitrust responsibilities, Entergy Mississippi, LLC, as a result of the license transfer.

Date of issuance: November 30, 2018.

Effective date: As of the date of issuance and shall be implemented within 60 days from the date of issuance.

Amendment Nos: 262 (Arkansas Nuclear One, Unit 1), 312 (Arkansas Nuclear One, Unit 2), and 215 (Grand Gulf, Unit 1). A publicly-available version is in ADAMS under Accession No. ML18306A513; documents related to these amendments are listed in the Safety Evaluation enclosed with the letter dated August 1, 2018 (ADAMS Accession No. ML18177A236).

Renewed Facility Operating License Nos. DPR-51, NPF-6, and NPF-29: The amendments revised the Renewed Facility Operating Licenses for Arkansas Nuclear One, Units 1 and 2, and revised the Renewed Facility Operating License and the antitrust conditions for Grand Gulf, Unit 1.

Date of initial notice in Federal Register: December 29, 2017 (82 FR 61800). The supplemental letter dated November 15, 2018, provided additional information that clarified the application and did not expand the scope of the application as originally noticed.

The Commission's related evaluation of the amendments is contained in a Safety Evaluation dated August 1, 2018.

Exelon FitzPatrick, LLC and Exelon Generation Company, LLC, Docket No. 50-333, James A. FitzPatrick Nuclear Power Plant (FitzPatrick), Oswego County, New York

Date of amendment request: January 31, 2018, as supplemented by letter dated July 12, 2018.

Brief description of amendment: The amendment revised the emergency plan by changing the emergency action level schemes to those based on the Nuclear Energy Institute's (NEI's) guidance in NEI-99-01, Revision 6, “Development of Emergency Action Levels for Non-Passive Reactors,” dated November 2012, which was endorsed by the NRC by letter dated March 28, 2013.

Date of issuance: November 28, 2018.

Effective date: As of the date of issuance, and shall be implemented on or before December 31, 2019.

Amendment No.: 323. A publicly-available version is in ADAMS under Accession No. ML18289A432; documents related to this amendment are listed in the Safety Evaluation enclosed with the amendment.

Renewed Facility Operating License No. DPR-59: The amendment revised the FitzPatrick emergency plan.

Date of initial notice in Federal Register: July 17, 2018 (83 FR 33267). The supplement dated July 12, 2018, provided additional information that clarified the application, did not expand the scope of the application as originally noticed, and did not change the NRC staff's original proposed no significant hazards consideration determination as published in the Federal Register.

The Commission's related evaluation of the amendment is contained in a Safety Evaluation dated November 28, 2018.

No significant hazards consideration comments received: No.

Exelon Generation Company, LLC, Docket Nos. 50-352 and 50-353, Limerick Generating Station, Units 1 and 2, Montgomery County, Pennsylvania

Date of amendment request: January 29, 2018, as supplemented by letter dated June 11, 2018.

Brief description of amendments: The amendments lowered the Technical Specification (TS) Standby Liquid Control System (SLCS) Surveillance Requirement (SR) (TS ¾.1.5) pump flow rate value, raised the TS SLCS SR Boron-10 enrichment value of the sodium pentaborate added to the SLCS tank, and expanded the operating range in the sodium pentaborate solution temperature/concentration requirements figure.

Date of issuance: November 27, 2018.

Effective date: As of the date of issuance and shall be implemented within 90 days of issuance.

Amendment Nos.: 232 (Unit 1) and 195 (Unit 2). A publicly-available version is in ADAMS under Accession No. ML18255A278; documents related to these amendments are listed in the Safety Evaluation enclosed with the amendments.

Renewed Facility Operating License Nos. NPF-39 and NPF-85: The amendments revised the Renewed Facility Operating Licenses and TSs.

Date of initial notice in Federal Register: March 27, 2018 (83 FR 13150). The supplemental letter dated June 11, 2018, provided additional information that clarified the application, did not expand the scope of the application as originally noticed, and did not change the NRC staff's original proposed no significant hazards consideration determination as published in the Federal Register.

The Commission's related evaluation of the amendment is contained in a Safety Evaluation dated November 27, 2018.

No significant hazards consideration comments received: No.

NextEra Energy Duane Arnold, LLC, Docket No. 50-331, Duane Arnold Energy Center, Linn County, Iowa

Date of amendment request: December 15, 2018, as supplemented by letters dated July 26, and October 18, 2018.

Brief description of amendment: The amendment revised the emergency action level (EAL) scheme to one based on the Nuclear Energy Institute (NEI) document NEI 99-01, Revision 6, “Development of Emergency Action Levels for Non-Passive Reactors,” dated November 21, 2012.

Date of issuance: November 30, 2018.

Effective date: As of the date of issuance and shall be implemented within 365 days.

Amendment No.: 308. A publicly-available version is in ADAMS under Accession No. ML18292A566; documents related to this amendment are listed in the Safety Evaluation enclosed with the amendment.

Renewed Facility Operating License No. DPR-49: The amendment revised the Renewed Facility Operating License No. DPR-49.

Date of initial notice in Federal Register: March 13, 2018 (83 FR 10920). The supplemental letters dated July 26, and October 18, 2018, provided additional information that clarified the application, did not expand the scope of the application as originally noticed, and did not change the staff's original proposed no significant hazards consideration determination as published in the Federal Register.

The Commission's related evaluation of the amendment is contained in a Safety Evaluation dated November 30, 2018.

No significant hazards consideration comments received: No.

NextEra Energy Point Beach, LLC, Docket Nos. 50-266 and 50-301, Point Beach Nuclear Plant (PBNP), Units 1 and 2, Town of Two Creeks, Manitowoc County, Wisconsin

Date amendment request: August 31, 2017, as supplemented by letters dated October 26, 2017, August 10, and September 28, 2018.

Brief description of amendments: The amendments revised the Renewed Facility Operating Licenses for PBNP, Units 1 and 2, to add a new license condition to allow the implementation of 10 CFR 50.69, “Risk-informed categorization and treatment of structures, systems and components for nuclear power reactors.”

Date of issuance: November 26, 2018.

Effective date: As of the date of issuance and shall be implemented within 90 days of issuance.

Amendment Nos.: 262 (Unit 1) and 265 (Unit 2). A publicly-available version is in ADAMS under Accession No. ML18289A378; documents related to these amendments are listed in the Safety Evaluation enclosed with the amendments.

Renewed Facility Operating License Nos. DPR-24 and DPR-27: The amendments revised the Renewed Facility Operating Licenses.

Date of initial notice in Federal Register: February 13, 2018 (83 FR 6226). The supplemental letters dated August 10, and September 28, 2018, provided additional information that clarified the application, did not expand the scope of the application as originally noticed, and did not change the staff's original proposed no significant hazards consideration determination as published in the Federal Register.

The Commission's related evaluation of the amendments is contained in a Safety Evaluation dated November 26, 2018.

No significant hazards consideration comments received: No.

NextEra Energy Seabrook, LLC, Docket No. 50-443, Seabrook Station, Unit No. 1, Rockingham County, New Hampshire

Date of amendment request: December 1, 2017.

Description of amendment request: The amendment revised certain 18-month Technical Specification (TS) surveillance requirements to eliminate the condition that testing be conducted “during shutdown” and revised the administrative portion of the TSs regarding plant staff and responsibilities.

Date of issuance: November 27, 2018.

Effective date: As of the date of issuance and shall be implemented within 90 days.

Amendment No.: 158. A publicly-available version is in ADAMS under Accession No. ML18247A538; documents related to this amendment are listed in the Safety Evaluation enclosed with the amendment.

Facility Operating License No. NPF-86: The amendment revised the Facility Operating License and TSs.

Date of initial notice in Federal Register: February 13, 2018 (83 FR 6227).

The Commission's related evaluation of the amendment is contained in a Safety Evaluation dated November 27, 2018.

No significant hazards consideration comments received: No.

Northern States Power Company—Minnesota, Docket No. 50-263, Monticello Nuclear Generating Plant, Wright County, Minnesota

Date of amendment request: July 3, 2018.

Brief description of amendment: The amendment changed the Technical Specifications to adopt Technical Specifications Task Force (TSTF) traveler, TSTF-551, Revision 3, “Revise Secondary Containment Surveillance Requirements.”

Date of issuance: November 26, 2018.

Effective date: As of the date of issuance and shall be implemented within 90 days of issuance.

Amendment No.: 199. A publicly-available version is in ADAMS under Accession No. ML18291B214; documents related to this amendment are listed in the Safety Evaluation enclosed with the amendment.

Renewed Facility Operating License No. DPR-22: The amendment revised the Renewed Facility Operating License and Technical Specifications.

Date of initial notice in Federal Register: August 28, 2018 (83 FR 43906).

The Commission's related evaluation of the amendment is contained in a Safety Evaluation dated November 26, 2018.

No significant hazards consideration comments received: No.

Southern Nuclear Operating Company, Docket Nos. 52-025 and 52-026, Vogtle Electric Generating Plant, Units 3 and 4, Burke County, Georgia

Date of amendment request: May 18, 2018.

Description of amendments: These amendments authorized changes to Technical Specifications Limiting Condition for Operation 3.3.8, Engineered Safety Feature Actuation System (ESFAS) Instrumentation, related to Safeguard Actuation Functions. Various ESFAS Functions require applicability and corresponding action changes to more accurately reflect their operation and related safety analysis assumptions.

Date of issuance: November 13, 2018.

Effective date: As of the date of issuance and shall be implemented within 30 days of issuance.

Amendment Nos.: 148 (Unit 3) and 147 (Unit 4). A publicly-available version is in ADAMS under Package Accession No. ML18296A412; documents related to these amendments are listed in the Safety Evaluation enclosed with the amendments.

Facility Combined Licenses Nos. NPF-91 and NPF-92: The amendments revised the Facility Combined License.

Date of initial notice in Federal Register: July 17, 2018 (83 FR 33270).

The Commission's related evaluation of the amendments is contained in the Safety Evaluation dated November 13, 2018.

No significant hazards consideration comments received: No.

Virginia Electric and Power Company, Docket Nos. 50-338 and 50-339, North Anna Power Station, Units No. 1 and No. 2, Louisa County, Virginia

Date of amendment request: January 22, 2018, as supplemented by letter dated March 26, 2018.

Brief description of amendments: The amendments revised the North Anna Power Station, Unit Nos. 1 and 2, Technical Specification (TS) 3.7.10, “Main Control Room/Emergency Switchgear Room (MCR/ESGR) Emergency Ventilation System (EVS),” and TS 3.7.12, “Emergency Core Cooling System (ECCS) Pump Room Exhaust Air Cleanup System (PREACS),” to adopt the Technical Specifications Task Force (TSTF) Traveler TSTF-522, Revision 0, “Revise Ventilation System Surveillance Requirements to Operate for 10 hours per Month.” The amendments further revised TS 5.5.10, “Ventilation Filter Testing Program (VFTP),” to remove the electric heater output test and to increase the specified relative humidity (RH) for the charcoal testing for the MCR/ESGR EVS from the current 70 percent to 95 percent RH. Additionally, the amendments made an administrative change to the Environmental Protection Plan to reflect updated references to 10 CFR.

Date of issuance: November 27, 2018.

Effective date: As of the date of issuance and shall be implemented within 60 days of issuance.

Amendment Nos.: 280 and 263. A publicly-available version is in ADAMS under Accession No. ML18290A852; documents related to these amendments are listed in the Safety Evaluation enclosed with the amendments.

Renewed Facility Operating License No. NPF-4 and NPF-7: The amendments revised the Renewed Facility Operating Licenses and TSs.

Date of initial notice in Federal Register: September 11, 2018 (83 FR 45988).

The Commission's related evaluation of the amendment is contained in a Safety Evaluation dated November 27, 2018.

No significant hazards consideration comments received: No.

Vistra Operations Company LLC, Docket Nos. 50-445 and 50-446, Comanche Peak Nuclear Power Plant, Unit Nos. 1 and 2 (CPNPP), Somervell County, Texas

Date of amendment request: March 29, 2018.

Brief description of amendments: The amendments revised Technical Specification 3.3.2, “Engineered Safety Feature Actuation System (ESFAS) Instrumentation,” to change the applicability of when the automatic auxiliary feedwater actuation due to the trip of all main feedwater pumps is required to be operable at CPNPP.

Date of issuance: November 30, 2018.

Effective date: As of the date of issuance and shall be implemented within 60 days from the date of issuance.

Amendment Nos.: Unit 1-171; Unit 2-171. A publicly-available version is in ADAMS under Accession No. ML18304A487; documents related to these amendments are listed in the Safety Evaluation enclosed with the amendments.

Facility Operating License Nos. NPF-87 and NPF-89: The amendments revised the Facility Operating Licenses and Technical Specifications.

Date of initial notice in Federal Register: June 5, 2018 (83 FR 26107).

The Commission's related evaluation of the amendments is contained in a Safety Evaluation dated November 30, 2018.

No significant hazards consideration comments received: No.

Dated at Rockville, Maryland, this 10th day of December 2018.
For the Nuclear Regulatory Commission.
Kathryn M. Brock,
Deputy Director, Division of Operating Reactor Licensing, Office of Nuclear Reactor Regulation.

[FR Doc. 2018-26968 Filed 12-17-18; 8:45 am]

BILLING CODE 7590-01-P